DEPARTMENT OF AGRICULTURE

Rural-Business Cooperative Service

Notice of Request for Information Collection

AGENCY: Rural Business-Cooperative Service, USDA.

ACTION: Proposed collection; Comments requested.

SUMMARY: In accordance with the Paperwork Reduction Act of 1995, this notice announces the Rural Business-Cooperative Service's intention to request an extension of a currently approved information collection in support of the program for “Rural Development Loan Servicing.”

DATES: Comments on this notice must be received by November 30, 2001 to be assured of consideration.

FOR FURTHER INFORMATION CONTACT: Cindy L. Mason, Loan Assistant, Rural Business-Cooperative Service, USDA, Stop 3225, 1400 Independence Ave., SW, Washington, DC 20250-3225, Telephone: (202) 690-1433.

SUPPLEMENTARY INFORMATION: Title: Rural Development Loan Servicing.

OMB Number: 0570-0015.

Expiration Date of Approval: March 31, 2002.

Type of Request: Extension of a currently approved information collection.

Abstract: This regulation is for servicing and liquidating loans made by the Rural Business-Cooperative Service (RBS), under the Intermediary Relending Program (IRP) to eligible IRP intermediaries and applies to ultimate recipients and other involved parties. This regulation is also for servicing the existing Rural Development Loan Fund (RDLF) loans previously approved and administered by the U.S. Department of Health and Human Services (HHS) under 45 CFR part 1076. The objective of the IRP is to improve community facilities and employment opportunities and increase economic activity in rural areas by financing business facilities and community development. This purpose is achieved through loans made by RBS to intermediaries that establish programs for the purpose of providing loans to ultimate recipients for business facilities and community development. The regulations contain various requirements for information from the intermediaries and some requirements may cause the intermediary to require information from ultimate recipients. The information requested is vital to RBS for prudent loan servicing, credit decisions and reasonable program monitoring. The provisions of this subpart supersede conflicting provisions of any other subpart.

Estimate of Burden: Public reporting burden for this collection of information is estimated to average 2.68 hours per response.

Respondents: Non-profit corporations, public agencies, and cooperatives.

Estimated number of Respondents: 420.

Estimated number of responses per respondent: 9.96.

Estimated total annual burden on respondents: 11,235 hours.

Copies of this information collection can be obtained from Cheryl Thompson, Regulations and Paperwork Management Branch, at (202) 692-0043.

Comments

Comments are invited on: (a) Whether the proposed collection of information is necessary for the proper performance of the functions of 3 RBS, including whether the information will have practical utility; (b) the accuracy of RBS estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Cheryl Thompson, Regulations and Paperwork Management Branch, U.S. Department of Agriculture, Rural Development, STOP 0742, 1400 Independence Ave., SW, Washington, DC 20250-0742. All responses to this notice will be summarized and included in the request for OMB approval. All comments will also become a matter of public record.

Dated: September 19, 2001.
John Rosso,
Acting Administrator, Rural Business-Cooperative Service.

[FR Doc. 01-24480 Filed 9-28-01; 8:45 am]

BILLING CODE 3410-XY-U